OFFICE OF THE UNITED STATES TRADE REPRESENTATIVE

Request for Nominations Based on Updated Membership Criteria for the Trade Advisory Committee on Africa

AGENCY: Office of the United States Trade Representative.

ACTION: Request for Nominations; Amendment of Membership Criteria.

SUMMARY: This notice amends the Trade Advisory Committee on Africa (TACA)—Charter Renewal and Nominations for Membership Notice of March 18, 2014 (79 FR 15201) to revise the membership eligibility criteria pursuant to the Revised Guidance on the Appointment of Lobbyists to Federal Advisory Committees, Boards and Commissions, published by the Office of Management and Budget (OMB) on August 13, 2014. Federally-registered lobbyists are no longer prohibited from serving on the TACA in a representative capacity in light of OMB's recent policy clarification that the eligibility restriction does not apply to advisory committee members who are specifically appointed to represent the interests of a nongovernmental entity, a recognizable group of persons or nongovernmental entities (an industry sector, labor unions, environmental groups, etc.), or state or local governments. The lobbyist prohibition continues to apply to persons serving on advisory committees in their individual capacity. The United States Trade Representative now will consider nominations of federally-registered lobbyists for appointment to the TACA as members who serve in a representative capacity. All other eligibility criteria continue to apply.

DATES: These revised membership criteria are effective immediately. Nominations for membership to the TACA (including self-nominations) will be accepted on a rolling basis.

ADDRESSES: Submit nominations to Julia Friedman, Attorney-Advisor for the Office of the U.S. Trade Representative's Office of Intergovernmental Affairs and Public Engagement, at iape@ustr.eop.gov. For alternatives to email submission, please contact Julia Friedman at (202) 395-6120.

FOR FURTHER INFORMATION CONTACT: Julia Friedman, Attorney-Advisor for the Office of the U.S. Trade Representative's Office of Intergovernmental Affairs and Public Engagement, at (202) 395-6120.

SUPPLEMENTARY INFORMATION:

Background

Section 135 of the Trade Act of 1974, as amended (19 U.S.C. 2155), established a trade advisory system to ensure that U.S. trade policy and trade negotiation objectives adequately reflect U.S. commercial and economic interests. Section 135(a)(1) directs the President to: Seek information and advice from representative elements of the private sector and the non-Federal governmental sector with respect to:

(A) Negotiating objectives and bargaining positions before entering into a trade agreement under [title I of the Trade Act of 1974 and section 2103 of the Bipartisan Trade Promotion Authority Act of 2002];

(B) The operation of any trade agreement once entered into, including preparation for dispute settlement panel proceedings to which the United States is a party; and

(C) Other matters arising in connection with the development, implementation, and administration of the trade policy of the United States.

Section 135(c)(1) of the 1974 Trade Act provides that: [t]he President may establish individual general policy advisory committees for industry, labor, agriculture, services, investment, defense, and other interests, as appropriate, to provide general policy advice on matters referred to in [Section 135(a)]. Such committees shall, insofar as is practicable, be representative of all industry, labor, agricultural, service, investment, defense, and other interests, respectively, including small business interests, and shall be organized by the United States Trade Representative and the Secretaries of Commerce, Defense, Labor, Agriculture, the Treasury, or other executive departments, as appropriate. The members of such committees shall be appointed by the United States Trade Representative in consultation with such Secretaries. Section 14 of the AGOA Acceleration Act of 2004 directs the President to convene the TACA “in order to facilitate the goals and objectives of the African Growth and Opportunity Act and this Act, and to maintain ongoing discussions with African trade and agricultural ministries and private sector organizations on issues of mutual concern, including regional and international trade concerns and World Trade Organization issues.” Pursuant to these provisions, the Office of the U.S. Trade Representative established the TACA.

Functions

The duties of the TACA are to provide the President, through the United States Trade Representative, policy advice on issues involving trade and development in sub-Saharan Africa. The TACA will meet as needed at the call of the United States Trade Representative or his designee depending on various factors such as the level of activity of trade negotiations and the needs of the United States Trade Representative, or at the call of two-thirds of the TACA members.

Membership

Members serve without compensation and are responsible for all expenses incurred to attend the meetings. TACA members are appointed by the United States Trade Representative. Appointments are made at the chartering of the TACA and periodically throughout the four-year charter term, which ends on March 17, 2018, unless otherwise extended. Members serve at the discretion of the United States Trade Representative. Members are selected to represent their sponsoring U.S. entity's interests on sub-Saharan African trade matters, and thus nominees are considered foremost based upon their ability to carry out the goals of section 135(c) of the Trade Act of 1974, as amended. Other criteria are the nominee's knowledge of and expertise in international trade issues as relevant to the work of the TACA. While all or almost all TACA members will represent their sponsoring U.S. entities' interests, it is possible that the United States Trade Representative may appoint members who serve in an individual capacity as subject matter experts. Appointments to the TACA are made without regard to political affiliation with an interest in ensuring balance in terms of sectors, demographics, and other factors relevant to the TACA's needs.

Request for Nominations

The Office of the U.S. Trade Representative is soliciting nominations for membership on the TACA. To be appointed to the TACA, the following eligibility criteria must be met:

1. The applicant must be a U.S. citizen.

2. The applicant must not be a full-time employee of a U.S. governmental entity.

3. If serving in an individual capacity, the applicant must not be a federally-registered lobbyist.

4. The applicant must not be registered with the U.S. Department of Justice under the Foreign Agents Registration Act;

5. The applicant must be able to obtain and maintain a security clearance.

6. For representative members, who will comprise the overwhelming majority of the TACA, the applicant must represent a U.S. organization whose members (or funders) have a demonstrated interest in issues relevant to trade and development in sub-Saharan Africa or that (a) is directly engaged in the import or export of goods or sells its services in sub-Saharan Africa, or (b) is an association of such entities.

For eligibility purposes, a “U.S. organization” is an organization, established under the laws of the United States, that is controlled by U.S. citizens, by another U.S. organization (or organizations), or by a U.S. entity (or entities), as determined based on its board of directors (or comparable governing body), membership, and funding sources, as applicable. To qualify as a U.S. organization, more than 50 percent of the board of directors (or comparable governing body) and more than 50 percent of the membership of the organization to be represented must be U.S. citizens, U.S. organizations, or U.S. entities. Additionally, at least 50 percent of the organization's annual revenue must be attributable to nongovernmental U.S. sources.

7. For members who will serve in an individual capacity, the applicant must possess subject matter expertise regarding international trade and development issues relevant to sub-Saharan Africa.

To be considered for TACA membership, interested persons should submit the following to Julia Friedman at iape@ustr.eop.gov:

1. Applicant's name, title, affiliation, and contact information.

2. If applicable, a sponsor letter on the U.S. organization's letterhead that contains a brief description of the manner in which international trade affects the U.S. organization and why the applicant should be considered for membership.

3. Applicant's personal resume.

4. An affirmative statement that the applicant and, if applicable, the U.S. organization the applicant represents meet all eligibility requirements.

Applicants who meet the eligibility criteria will be considered for membership based on the following factors: Ability to represent the sponsoring U.S. entity's or U.S. organization's and its subsector's interests on trade and development matters; knowledge of and experience in trade and development matters relevant to the work of the TACA; and ensuring that the TACA is balanced in terms of points of view, demographics, geography, and entity or organization size.

Dated: August 29, 2014.
Jewel James,
Assistant U.S. Trade Representative, Intergovernmental Affairs and Public Engagement.

[FR Doc. 2014-21126 Filed 9-4-14; 8:45 am]

BILLING CODE 3290-F4-P